INTERNATIONAL TRADE COMMISSION

Possible Modifications to the International Harmonized System Nomenclature

AGENCY: United States International Trade Commission.

ACTION: Request for Proposals To Amend the International Harmonized System.

SUMMARY: The Commission is soliciting proposals from interested parties and agencies to amend the international Harmonized Commodity Description and Coding System (Harmonized System), including the rules of interpretation, section and chapter notes, and the texts of the headings and subheadings, with a view to keeping the Harmonized System current with changes in patterns of technology and trade. Specific proposals in this connection will be reviewed by the Commission staff for potential submission to the Customs Co-operation Council, now known as the World Customs Organization (WCO), in Brussels, Belgium.

EFFECTIVE DATE: May 24, 2000.

FOR FURTHER INFORMATION CONTACT: Eugene A. Rosengarden, Director, Office of Tariff Affairs and Trade Agreements (O/TA&TA) (202/205-2595, E-Mail rosengarden@usitc.gov) or Ronald Heller (202/205-2596, E-Mail rheller@usitc.gov). The O/TA&TA fax number is 202/205-2616.

Background

Soon after the implementation of the Harmonized System (HS) in 1988, the Harmonized System (HS) Review Subcommittee (RSC) of the WCO began a series of reviews of the entire HS. The third review cycle begins this year, with an expected implementation date for changes of January 2007.

The HS was established by an international Convention, which, inter alia, provides that the Harmonized System should be kept up-to-date in light of changes in technology and patterns of international trade. The international HS nomenclature, which is administered by the WCO, provides a uniform structural basis for the customs tariff and statistical nomenclatures of all major trading countries of the world, including the United States. The Commission, the U.S. Customs Service and the Bureau of the Census are responsible for the development of U.S. technical proposals concerning the HS under section 1210 of the Omnibus Trade and Competitiveness Act of 1988 (the 1988 Act) (19 U.S.C. 3010). A 1988 notice issued by the United States Trade Representative (53 FR 45646, Nov. 10, 1988), establishes the Commission as the lead U.S. agency in considering proposals for HS amendments that are intended to ensure that it reflects such changes in technology and trade.

A copy of the U.S. Harmonized Tariff Schedule (HTSA), which incorporates the international Harmonized System in its overall structure, can be downloaded in compressed form (self-extracting files) at the USITC's World Wide Web (WWW) site on the following page (URL): http://www.usitc.gov/taffairs.htm. Hard copies and electronic copies of the HTSA can be found at many of the 1,400 federal Depository Libraries located throughout the United States and its territories; further information about these locations can be found on the WWW at the following location (URL): http://ww1.access.gpo.gov/GPOAccess/sitesearch/su_docs_fdlp/ adpos003.html, or by contacting GPO Access at the Government Printing Office, 1-888-293-6498. Note that the international HS comprises the broadest levels of categories in the HTSA, that is, the General Rules for the Interpretation of the Nomenclature, Section and Chapter titles, Section and Chapter legal notes, and heading and subheading texts to the 6-digit level of detail. U.S. Legal Notes, further subdivisions (8- and 10-digit subheadings) and statistical notes, as well as the entire chapters 98 and 99, are national legal and statistical detail added for the administration of the tariff and statistical programs and are not within the scope of the international HS review process.

Request for Proposals: In accordance with the above mentioned USTR notice, the Commission is seeking proposals for specific modifications to the HS (including the rules of interpretation, section and chapter notes, and the texts of the headings and subheadings) that will further the above goals. No proposals for changes to the national-level provisions (which include U.S. 8-digit subheadings, statistical annotations and rates of duty) will be considered by the Commission as a part of this review. Interested parties, associations and government agencies should submit specific language for proposed amendments to the HS together with appropriate descriptive comments and, to the extent available, trade data.

As part of this review, the Commission particularly invites proposals concerning the following matters:

• The deletion of HS headings or subheadings with low trade volume.

• The separate identification in the HS of new products important in international trade.

• The simplification of the HS, e.g., by the elimination of classification provisions which are difficult to administer.

• Modifications to the HS Explanatory Notes, a WCO publication which clarifies the scope of HS provisions.

As mentioned above, no proposals for changes to national-level provisions (including Additional U.S. Notes, U.S. 8-digit subheadings, statistical annotations and rates of duty) will be considered by the Commission as a part of this review. The changes in the international HS that will result from this review cycle will not necessarily affect tariff rates for products imported into the United States; as with the first two HS review cycles, the USITC plans eventually to develop a set of proposed HTS changes that will align the HTS with the international HS changes, pursuant to sec. 1205 of the 1988 Act.

Deadline: Suggestions must be received no later than the close of business June 30, 2000, in order to be considered by the Commission. Requests for extensions of time should be made in writing to the Secretary at the address indicated below.

Written Submissions: All submissions should be addressed to the Secretary, United States International Trade Commission, 500 E St. SW, Room 112-A ,Washington, DC 20436. Commercial or financial information that a party desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available for inspection by interested persons.

TDD Access: Hearing impaired individuals are advised that information on this matter can be obtained by contacting our TDD terminal on (202) 205-1810.

World Wide Web Access: This notice, and any subsequent notices published pursuant to section 1210 of the 1988 Act, may be obtained from the ITC Internet web server: http://www.usitc.gov/.

By order of the Commission.
Issued: May 25, 2000.
Donna R. Koehnke,
Secretary.

[FR Doc. 00-13806 Filed 6-1-00; 8:45 am]

BILLING CODE 7020-02-D